ENVIRONMENTAL PROTECTION AGENCY

[OW-2003-0064, FRL-8731-1]

U.S. EPA's National Clean Water Act Recognition Awards Presentation During the Water Environment Federation's Technical Exposition and Conference (WEFTEC), and Announcement of 2008 National Awards Winners

AGENCY: Environmental Protection Agency (EPA).

ACTION: Notice.

SUMMARY: The Environmental Protection Agency recognized municipalities and industries for outstanding and innovative technological achievements in wastewater treatment and pollution abatement programs. An inscribed plaque was presented to first and second place national winners at the annual Clean Water Act Recognition Awards presentation during the Water Environment Federation's Technical Exposition and Conference (WEFTEC). Recognition is made for outstanding programs and projects in operations and maintenance at wastewater treatment facilities, biosolids management and public acceptance, municipal implementation and enforcement of local pretreatment programs, cost-effective storm water controls, and combined sewer overflow controls. This action announces the 2008 national awards winners.

DATES: Monday, October 20, 2008, 11:30 a.m. to 1 p.m.

ADDRESSES: The national awards presentation ceremony was held at the Hyatt Regency McCormick Place, Chicago, Illinois.

FOR FURTHER INFORMATION CONTACT: Matthew Richardson, Telephone: (202) 564-2947. Facsimile Number: (202) 501-2396. E-Mail: richardson.matthew@epa.gov. Also visit the Office of Wastewater Management's Web page at http://www.epa.gov/owm.

SUPPLEMENTARY INFORMATION: The Clean Water Act Recognition Awards are authorized by section 501(a) and (e) of the Clean Water Act, and 33 U.S.C. 1361(a) and (e). Applications and nominations for the national awards are recommended by EPA regions. The regulation that establishes the framework for the annual recognition awards program is at 40 CFR part 105. EPA announced the availability of application and nomination information for this year's awards (73 FR 16299, March 27, 2008). The awards program enhances national awareness of municipal wastewater treatment and encourages public support of programs targeted to protecting the public's health and safety and the nation's water quality. State water pollution control agencies and EPA regional offices make recommendations to headquarters for the national awards. Programs and projects being recognized are in compliance with applicable water quality requirements and have a satisfactory record with respect to environmental quality. Municipalities and industries are recognized for their demonstrated creativity and technological achievements in five awards categories as follows:

(1) Outstanding Operations and Maintenance practices at wastewater treatment facilities;

(2) Exemplary Biosolids Management projects, technology/innovation or development activities, research and public acceptance efforts;

(3) Pretreatment Program Excellence;

(4) Stormwater Management Excellence; and,

(5) Outstanding Combined Sewer Overflow Control programs. The winners of the EPA's 2008 National Clean Water Act Recognition Awards are listed below by category.

| Sub-category
Category: Operations and Maintenance Awards
O&M First Place:
F. Wayne Hill Water Resources Center, Buford, Georgia, EPA Region 4 | Large Advanced Plant.
El Paso Water Utilities Public Service Board, Northwest Wastewater Treatment Facility, El Paso, Texas, EPA Region 6 | Large Advanced Plant.
City of Newnan—Wahoo Creek Water Pollution Control Plant, Newnan, Georgia, EPA Region 4 | Medium Advanced Plant.
Waterville Wastewater Treatment Facility, Waterville, New York, EPA Region 2 | Small Advanced Plant.
Joint Water Pollution Control Plant, Carson, California, EPA Region 9 | Large Secondary Plant.
Southside Wastewater Treatment Plant, City of Vidalia, ESG Operations, Georgia, EPA Region 4 | Medium Non-Discharging Plant.
The Manor Water Reclamation Facility, Alpharetta, Georgia, EPA Region 4 | Small Non-Discharging Plant.
Bristol, New Hampshire Wastewater Treatment Plant, Bristol, New Hampshire, EPA Region 1 | Most Improved Plant.
O&M Second Place:
Central Contra Costa Sanitary District, Martinez, California, EPA Region 9 | Large Secondary Plant.
Grandville Wastewater Treatment Plant, Grandville, Michigan, EPA Region 5 | Medium Advanced Plant.
Douglasville-Douglas County Water and Sewer Authority, Beaver Estates Water Pollution Control Plant, Douglasville, Georgia, EPA Region 4 | Small Advanced Plant.
Category: Exemplary Biosolids Management Awards
Biosolids First Place:
Lawrence Municipal Wastewater Treatment Facility, Lawrence, Kansas, EPA Region 7 | Large Operating Projects.
Tahlequah Public Works Authority Compost Operation, Tahlequah, Oklahoma, EPA Region 6 | Small Operating Projects.
Metropolitan Water Reclamation District of Greater Chicago, Chicago, Illinois, EPA Region 5 | Public Acceptance.
Biosolids Second Place:
Spencer Creek Wastewater Treatment Plant, Organic Resource Recycling Program, St. Peters, Missouri, EPA Region 7 | Large Operating Projects.
Category: Pretreatment Program Awards
Pretreatment First Place:
Union Sanitary District, Union City, California, EPA Region 9 | Greater Than 21 Significant Industrial Users (SIUs).
Sam Hobbs Regional Wastewater Treatment Facility, Casper, Wyoming, EPA Region 8 | 6-20 SIUs.
St. Johns County Utilities Pretreatment Program, St. Augustine, Florida, EPA Region 4 | 0-5 SIUs.
Pretreatment Second Place:
Laguna Subregional Reclamation Facility, Santa Rosa, California, EPA Region 9 | Greater Than 21 SIUs.
South Valley Water Reclamation Facility Pretreatment Program, West Jordan, Utah, EPA Region 8 | 6-20 SIUs.
Category: Stormwater Management Awards
Stormwater First Place:
County of Sacramento Commercial/Industrial Stormwater, Compliance Program, Sacramento, California, EPA Region 9 | Industrial Program.
Stormwater First Place:
Rogue Valley Sewer Services, Central Point, Oregon, EPA Region 10 | Municipal Program.
Stormwater Second Place:
Keep It Clean Partnership—City of Boulder, Town of Erie, City of Longmont, City of Louisville, Town of Superior, and Boulder County, Colorado, EPA Region 8 | Municipal Program.
Category: Combined Sewer Overflow Control Awards
CSO First Place:
Village of Metamora Wastewater Collection Separation, Metamora, Ohio, EPA Region 5 | Municipal CSO Program.

Dated: October 10, 2008.
Judy Davis,
Acting Director, Office of Wastewater Management.

[FR Doc. E8-24693 Filed 10-20-08; 8:45 am]

BILLING CODE 6560-50-P